DEPARTMENT OF JUSTICE

Antitrust Division

Notice Pursuant to the National Cooperative Research and Production Act of 1993—Tree Care Industry Association, Inc.

Notice is hereby given that, on November 27, 2006, pursuant to Section 6(a) of the National Cooperative Research and Production Act of 1993, 15 U.S.C. 4301 et seq. (“the Act”), Tree Care Industry Association, Inc. (“TCIA”) has filed written notifications simultaneously with the Attorney General and the Federal Trade Commission disclosing additions or changes to its standards development activities. The notifications were filed for the purpose of extending the Act's provisions limiting the recovery of antitrust plaintiffs to actual damages under specified circumstances. Specifically, TCIA recently finalized and adopted four standards: BSR A300 Part 5 Management of Trees and Shrubs—Standard Practices (Management of Trees and Shrubs During Site Planning, Site Development, and Construction); BSR A300 Part 6 Transplanting; PINS A300 Part 7 Integrated Vegetation Management; and TCIA Accreditation Council Standards for Accreditation Draft 5 Version 2.

On September 8, 2004, TCIA filed its original notification pursuant to Section 6(a) of the Act. The Department of Justice published a notice in the Federal Register pursuant to Section 6(b) of the Act on October 4, 2004 (69 FR 59271).

Patricia A. Brink,
Deputy Director of Operations, Antitrust Division.

[FR Doc. 06-9833 Filed 12-22-06; 8:45 am]

BILLING CODE 4410-11-M